DEPARTMENT OF THE INTERIOR

National Park Service

Cedar Creek and Belle Grove National Historical Park Advisory Commission; Notice of Meetings

AGENCY: Department of the Interior, National Park Service.

ACTION: Cedar Creek and Belle Grove National Historical Park Advisory Commission; Notice of Meetings.

SUMMARY: Notice is hereby given in accordance with the Federal Advisory Committee Act that meetings of the Cedar Creek and Belle Grove National Historical Park Advisory Commission will be held to discuss the development of the Park's general management plan.

Dates and Locations: September 18, 2008, at the Strasburg Town Hall Council Chambers, 174 East King St., Strasburg, VA; December 18, 2008, at the Middletown Town Hall Council Chambers, 7875 Church St., Middletown, VA; March 19, 2009, at the Warren County Government Center, 220 N. Commerce Ave., Front Royal, VA; and June 18, 2009, at the Strasburg Town Hall.

All meetings will convene at 9 a.m. and are open to the public.

FOR FURTHER INFORMATION CONTACT: Diann Jacox, Superintendent, Cedar Creek and Belle Grove National Historical Park, (540) 868-9176.

SUPPLEMENTARY INFORMATION: Topics to be discussed at the meetings include: review of draft plan, general management plan public meetings, planning process and schedule, land protection planning, environmental impact analysis, election of a commission chair, and commission sub-committees.

The Park Advisory Commission was designated by Congress to advise on the preparation and implementation of the park's general management plan. Individuals who are interested in the Park, the development of the plan, or the business of the Advisory Commission are encouraged to attend the meetings.

Dated: August 13, 2008.
Christopher J. Stubbs,
Acting Superintendent, Cedar Creek and Belle Grove National Historical Park.

[FR Doc. E8-19800 Filed 8-26-08; 8:45 am]

BILLING CODE 4310-AM-P